DEPARTMENT OF TRANSPORTATION

Maritime Administration

[Docket Number MARAD-2019-0109]

Virtual Public Meeting Port of Long Beach Pier B On-Dock Rail Support Facility Project; Virtual Meeting Access Information

AGENCY: Maritime Administration, DOT.

ACTION: Notice.

SUMMARY: This supplemental notice provides access information for Maritime Administration's virtual informational open house and public meeting related to the Draft Environmental Impact Statement (DEIS) for the Port of Long Beach (POLB or Port) Pier B On-Dock Rail Support Facility Project. Availability of the DEIS and virtual informational open house and public meeting was originally noticed in the Federal Register on July 8, 2020 (85 FR, No. 131, Page 41090). The Project is designed to address current traffic and cargo distribution bottlenecks into, out of, and within the POLB. The DEIS, supporting information, and comments are available for viewing and download at http://www.regulations.gov under docket number MARAD-2019-0109. The FEIS, when published, will be announced and available at this site as well.

DATES: There will be one virtual informational open house and public meeting held for the Project. The meeting will be held online and via teleconference Tuesday, July 28, 2020, from 6:00 p.m. to 8:00 p.m. Pacific Time (9:00 p.m.-11:00 p.m. Eastern). The public meeting will be preceded by an informational virtual open house from 4:00 p.m. to 6:00 p.m. Pacific Time (7:00 p.m.-9:00 p.m. Eastern). Interested parties are encouraged to attend and provide comments on the DEIS. The comment period for the DEIS has been extended and ends on August 31, 2020.

ADDRESSES: The public docket for MARAD-2019-0109 is maintained by the U.S. Department of Transportation, Docket Management Facility, West Building, Ground Floor, Room W12-140, 1200 New Jersey Avenue SE, Washington, DC 20590.

FOR FURTHER INFORMATION CONTACT: Alan Finio, Office of Environment, at telephone number: 202-366-8024 or by email at Alan.Finio.ctr@dot.gov. Persons who use a telecommunications device for the deaf (TDD) may call the Federal Information Relay Service (FIRS) at 1-800-877-8339 to contact the above individual during business hours. The FIRS is available twenty-four hours a day, seven days a week, to leave a message or question with the above individual. You will receive a reply during normal business hours. Additionally, if you go to the online docket and sign up for email alerts, you will be notified when comments or other Project documents are posted. Anonymous comments will be accepted.

SUPPLEMENTARY INFORMATION: The Port of Long Beach Pier B On-Dock Rail Support Facility Project includes consideration for anticipated future demand for cargo movement via on-dock rail; maximize on-dock intermodal operations to reach the long-term goal of 30 to 35 percent of cargo containers to be handled by on-dock rail; provide a facility that can accept and handle longer container trains; and provide a rail yard that is cost effective and fiscally prudent.

Virtual Public Meeting and Informational Open House

The virtual Port of Long Beach Pier B Public Meeting will be held via a ZOOM and telephone conference on July 28, 2020 from 4-8pm (Pacific). We encourage you to attend the virtual informational open house and public meeting to learn about, and comment on, the proposed Project.

Virtual Meeting Access

The meeting may be accessed by either one of the following ways:

• The events can be accessed online via WebEx using the following link, password and event number:

○ https://icfmeetings.webex.com/icfmeetings/j.php?MTID=mf970a0b7ff857fb947ccd92ac701d634

○ WebEx password: POLB

○ Event number: 160 225 3493

(When you connect through the WebEx link, you will be provided a telephone number or have the option to have WebEx call you.)

• The event can also be accessed by telephone using the following telephone number and access code:

○ 1-855-282-6330

○ Access Code: 160 225 3493

Those wishing to make verbal comments during the public meeting may register by email at Alan.Finio.ctr@dot.gov. Please including your full name, contact information and affiliation with your request. Individuals that have not registered ahead of time will be given the opportunity to make their statements after registered participants have finished. (see FOR FURTHER INFORMATION CONTACT). You may submit written comments to the Federal eRulemaking Portal at http://www.regulations.gov under docket number MARAD-2019-0109, either in place of, or in addition to, speaking at the public meeting. Written material must include your name and address and will be included in the public docket (http://www.regulations.gov).

Privacy Act

In accordance with 5 U.S.C. 553(c), MARAD solicits comments from the public to better inform its administrative process. MARAD posts these comments, without edit, including any personal information the commenter provides, to http://www.regulations.gov, as described in the system of records notice (DOT/ALL-14 FDMS), which can be reviewed at http://www.dot.gov/privacy. If you wish to provide comments containing proprietary or confidential information, please contact the agency for alternate submission instructions.

(Authority: 42 U.S.C. 4321, et seq., 40 CFR parts 1500-1508, Department of Transportation Order 5610.1C, and MARAD Administrative Order 600-1)

Dated: July 15, 2020.
By Order of the Maritime Administrator.
T. Mitchell Hudson, Jr.,
Secretary, Maritime Administration.

[FR Doc. 2020-15682 Filed 7-20-20; 8:45 am]

BILLING CODE 4910-81-P